DEPARTMENT OF TRANSPORTATION

Federal Aviation Administration

14 CFR Part 71

[Docket No. FAA-2011-0621; Airspace Docket No. 11-ASO-28]

Proposed Amendment of Class D and E Airspace; Tri-Cities, TN; Revocation of Class E Airspace; Tri-City, TN

AGENCY: Federal Aviation Administration (FAA), DOT.

ACTION: Supplemental notice of proposed rulemaking (SNPRM).

SUMMARY: This supplemental notice of proposed rulemaking would rename the city designator listed under the title in the preamble and regulatory text for Tri-Cities Regional Airport, and establish Class E airspace extending upward from 700 feet above the surface at Hawkins County Airport, Rogersville, TN, and Virginia Highlands Airport, Abington, VA. The Tri-Cities Class D airspace description would be amended to better describe the controlled airspace area. In an NPRM published in the Federal Register on April 10, 2012, the FAA proposed to amend existing controlled airspace extending upward from 700 feet above the surface at Tri-Cities Airport, Blountville, TN, that included the airports mentioned above. The FAA has reassessed the proposal and finds that separation of existing Class E airspace surrounding Virginia Highlands Airport, Abingdon, VA, and Hawkins County Airport, Rogersville, TN, from the Class E airspace area of Tri-Cities Regional Airport, Tri-Cities, TN, is necessary to further the safety and management of Instrument Flight Rules (IFR) operations in the Tri-Cities, TN area.

DATES: Comments must be received on or before November 13, 2012.

ADDRESSES: Send comments on this rule to: U. S. Department of Transportation, Docket Operations, West Building Ground Floor, Room W12-140, 1200 New Jersey SE., Washington, DC 20590-0001; Telephone: 1-800-647-5527; Fax: 202-493-2251. You must identify the Docket Number FAA-2011-0621; Airspace Docket No. 11-ASO-28, at the beginning of your comments. You may also submit and review received comments through the Internet at http://www.regulations.gov.

FOR FURTHER INFORMATION CONTACT: John Fornito, Operations Support Group, Eastern Service Center, Federal Aviation Administration, P.O. Box 20636, Atlanta, Georgia 30320; telephone (404) 305-6364.

SUPPLEMENTARY INFORMATION:

History

On April 28, 2012, the FAA published a NPRM to amend Class D and Class E airspace, Blountville, TN, and revoke Class E airspace at Tri-City, TN, (77 FR, 21505). The comment period closed May 25, 2012. No comments were received. Subsequent to publication, the FAA reassessed the proposal to show the separation of Hawkins County Airport, and Virginia Highlands Airport, from the Tri-Cities Regional Airport, by establishing each airport with their own respective city designator. The Tri-Cities Class D airspace description would be amended to better describe the controlled airspace area. The city designator for Tri-Cities Regional Airport was changed to Blountville, TN, in error, and would be noted correctly as Tri-Cities, TN, in this action. The FAA seeks comments on this SNPRM.

Comments Invited

Interested persons are invited to comment on this rule by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2011-0621; Airspace Docket No. 11-ASO-28) and be submitted in triplicate to the Docket Management System (see ADDRESSES section for address and phone number). You may also submit comments through the Internet at http://www.regulations.gov.

Persons wishing the FAA to acknowledge receipt of their comments on this action must submit with those comments a self-addressed stamped postcard on which the following statement is made: “Comments to Docket No. FAA-2011-0621; Airspace Docket No. 11-ASO-28.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of SNPRM

An electronic copy of this document may be downloaded from and comments submitted through http://www.regulations.gov. Recently published rulemaking documents can also be accessed through the FAA's Web page at http://www.faa.gov/airports_airtraffic/air_traffic/publications/airspace_amendments/.

You may review the public docket containing the proposal, any comments received, and any final disposition in person in the Dockets Office (see the ADDRESSES section for address and phone number) between 9 a.m. and 5 p.m., Monday through Friday, except Federal Holidays. An informal docket may also be examined during normal business hours at the office of the Eastern Service Center, Federal Aviation Administration, room 210, 1701 Columbia Avenue, College Park, Georgia 30337.

Persons interested in being placed on a mailing list for future NPRM's should contact the FAA's Office of Rulemaking, (202) 267-9677, to request a copy of Advisory circular No. 11-2A, Notice of Proposed Rulemaking distribution System, which describes the application procedure.

The Supplemental Proposal

The FAA is proposing an amendment to Title 14 Code of Federal Regulations (14 CFR) Part 71 by renaming the city designator listed in the preamble under title, and regulatory text from Blountville, TN, to Tri-Cities, TN. This action also would establish Class E airspace extending upward from 700 feet above the surface at Hawkins County Airport, Rogersville, TN, and Virginia Highlands Airport, Abingdon, VA, and would amend existing Class E airspace and Class D airspace to accommodate standard instrument approach procedures developed at Tri-Cities Regional Airport (formerly Tri-City Regional Airport), Tri-Cities, TN/VA. The Class E surface area airspace designated as an extension would be removed. The Tri-Cities Class D airspace description would be amended to better describe the controlled airspace area. The geographic coordinates of the airport would be adjusted to be in concert with the FAAs aeronautical database.

Class D and E airspace designations are published in Paragraph 5000, 6002, 6004, and 6005, respectively of FAA order 7400.9W, dated August 8, 2012, and effective September 15, 2012, which is incorporated by reference in 14 CFR 71.1. The Class D and E airspace designations listed in this document will be published subsequently in the Order.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, would not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This proposed rulemaking is promulgated under the authority described in Subtitle VII, Part, A, Subpart I, Section 40103. Under that section, the FAA is charged with prescribing regulations to assign the use of airspace necessary to ensure the safety of aircraft and the efficient use of airspace. This proposed regulation is within the scope of that authority as it would amend controlled airspace in the Tri-Cities, TN, area.

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9W, Airspace Designations and Reporting Points, dated August 8, 2012, and effective September 15, 2012, is amended as follows:

Paragraph 5000 Class D Airspace

* * * * *

ASO TN D Tri-Cities, TN [Amended]

Tri-Cities Regional Airport, TN/VA

(Lat. 36°28′31″ N., long. 82°24′27″ W.)

Edwards Heliport, TN

(Lat. 36°25′57″ N., long. 82°17′37″ W.)

That airspace extending upward from the surface to and including 4,000 feet MSL within a 6.8-mile radius of Tri-Cities Regional Airport, excluding the 2.5-mile radius of Edwards Heliport. This Class D airspace area is effective during the specific days and times established in advance by a Notice to Airmen. The effective days and times will thereafter be continuously published in the Airport/Facility Directory.

Paragraph 6002 Class E Airspace Designated as Surface Areas

* * * * *

ASO TN E2 Tri-Cities, TN [Amended]

Tri-Cities Regional Airport, TN/VA

(Lat. 36°28′31″ N., long. 82°24′27″ W.)

That airspace extending upward from the surface to and including 4,000 feet MSL within a 6.8-mile radius of Tri-Cities Regional Airport. This Class E airspace area is effective during the specific days and times established in advance by a Notice to Airmen. The effective days and times will thereafter be continuously published in the Airport/Facility Directory.

Paragraph 6004 Class E Airspace Designated as an Extension to a Class D Surface Area.

* * * * *

ASO TN E4 Tri-City, TN [Removed]

Paragraph 6005 Class E Airspace Areas Extending Upward from 700 feet or More Above the Surface of the Earth.

* * * * *

ASO TN E5 Tri-Cities, TN [Amended]

Tri-Cities Regional Airport, TN/VA

(Lat. 36°28′31″ N., long. 82°24′27″ W.)

That airspace extending upward from 700 feet above the surface within a 9.3-mile radius of Tri-Cities Regional Airport and within 4-miles west and 8-miles east of the 223° bearing from the airport extending from the 9.3-mile radius to 23 miles southwest of the airport, and within 2-miles either side of the 43° bearing from the airport extending from the 9.3-mile radius to 14.5 miles northeast of the airport. and within a 17-mile radius of Virginia Highlands Airport

* * * * *

ASO TN E5 Rogersville, TN [New]

Hawkins County Airport, TN

(Lat. 36°27′27″ N., long. 82°53′06″ W.)

That airspace extending upward from 700 feet above the surface within a 7-mile radius of Hawkins County Airport, and within 7 miles each side of Runway 07/25 centerline, extending from the 7-mile radius to 12 miles east of Hawkins County Airport.

* * * * *

ASO VA E5 Abingdon, VA [New]

Virginia Highlands Airport, VA

(Lat. 36°41′14″ N., long. 82°02′00″ W.)

That airspace extending upward from 700 feet above the surface within a 17-mile radius of Virginia Highlands Airport

Issued in College Park, Georgia, on September 10, 2012.
Barry A. Knight,
Manager, Operations Support Group, Eastern Service Center, Air Traffic Organization.

[FR Doc. 2012-23867 Filed 9-27-12; 8:45 am]

BILLING CODE 4910-13-P